NATIONAL AERONAUTICS AND SPACE ADMINISTRATION

[Notice (15-037)]

Government-Owned Inventions, Available for Licensing

AGENCY: National Aeronautics and Space Administration.

ACTION: Notice of Availability of inventions for licensing.

SUMMARY: Patent applications on the inventions listed below assigned to the National Aeronautics and Space Administration, have been filed in the United States Patent and Trademark Office, and are available for licensing.

DATES: May 18, 2015.

FOR FURTHER INFORMATION CONTACT: Robin W. Edwards, Patent Counsel, Langley Research Center, Mail Stop 30, Hampton, VA 23681-2199; telephone (757) 864-3230; fax (757) 864-9190.

NASA Case No.: LAR-18463-1: Energy-Absorbing Beam Member;

NASA Case No.: LAR-18509-1: Infrasonic Stethoscope for Monitoring Physiological Processes;

NASA Case No.: LAR-18474-1: Compound Wing Vertical Takeoff and Landing Small Unmanned Aircraft System;

NASA Case No.: LAR-18526-1: Device and Method of Scintillating Quantum Dots for Radiation Imaging;

NASA Case No.: LAR-18447-1: System and Method for Multi-Wavelength Optical Signal Detection;

NASA Case No.: LAR-17769-2: Modification of Surface Energy via Direct Laser Ablative Surface Patterning.

Sumara M. Thompson-King,
General Counsel.

[FR Doc. 2015-11969 Filed 5-15-15; 8:45 am]

BILLING CODE 7510-13-P